SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: March 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22(f) for the time period specified above:

Approvals by Rule Issued Under 18 CFR 806.22(f)

1. Beech Resources, LLC; Pad ID: Douglas C. Kinley Pad A, ABR-201903001; Lycoming Township, Lycoming County, Pa.; Consumptive Use of Up to 4.0000 mgd; Approval Date: March 7, 2019.

2. Repsol Oil & Gas USA, LLC; Pad ID: KLINE (01 125) R, ABR-201903002; Springfield Township, Bradford County, Pa.; Consumptive Use of Up to 6.0000 mgd; Approval Date: March 11, 2019.

3. Rockdale Marcellus, LLC; Pad ID: Hickok-114, ABR-201903003; Canton Township, Bradford County, Pa.; Consumptive Use of Up to 2.0000 mgd; Approval Date: March 11, 2019.

4. Seneca Resources Company, LLC; Pad ID: Gamble Pad O, ABR-201903009; Hepburn Township, Lycoming County, Pa.; Consumptive Use of Up to 4.0000 mgd; Approval Date: March 14, 2019.

5. Cabot Oil & Gas Corporation; Pad ID: AbbottM P1, ABR-201903004; Bridgewater Township, Susquehanna County, Pa.; Consumptive Use of Up to 5.0000 mgd; Approval Date: March 18, 2019.

6. Seneca Resources Company, LLC; Pad ID: DCNR Tract 007 Pad C, ABR-201903006; Delmar and Shippen Townships, Tioga County, Pa.; Consumptive Use of Up to 4.0000 mgd; Approval Date: March 18, 2019.

7. Repsol Oil & Gas USA, LLC; Pad ID: CHOCONUT VALLEY FARMS (07 090), ABR-201403007.R1; Choconut Township, Susquehanna County, Pa.; Consumptive Use of Up to 6.0000 mgd; Approval Date: March 21, 2019.

8. SWN Production Company, LLC; Pad ID: JOHN GOOD WEST LU9 PAD; ABR-201403008.R1; Cogan House and Jackson Townships, Lycoming County, Pa.; Consumptive Use of Up to 4.9990 mgd; Approval Date: March 21, 2019.

9. Seneca Resources Company, LLC; Pad ID: Clermont Pad D, ABR-201403009.R1; Jones Township, Elk County; Shippen Township, Cameron County; and Sargeant Township, McKean County, Pa.; Consumptive Use of Up to 4.0000 mgd; Approval Date: March 25, 2019.

10. Cabot Oil & Gas Corporation; Pad ID: BennerJ P1, ABR-201903005; Forest Lake Township, Susquehanna County, Pa.; Consumptive Use of Up to 5.0000 mgd; Approval Date: March 25, 2019.

11. SWN Production Company, LLC; PAD ID: WY-08 LEBER PAD, ABR-201903007; North Branch Township, Wyoming County, Pa.; Consumptive Use of Up to 4.9990 mgd; Approval Date: March 25, 2019.

12. JKLM Energy, LLC; PAD ID: Headwaters 141, ABR-201903008; Ulysses Township, Potter County, Pa.; Consumptive Use of Up to 3.0000 mgd; Approval Date: March 25, 2019.

Authority: Pub. L. 91-575, 84 Stat. 1509 et seq., 18 CFR parts 806 and 808.

Dated: April 9, 2019.
Jason E. Oyler,
General Counsel and Secretary to the Commission.

[FR Doc. 2019-08494 Filed 4-26-19; 8:45 am]

BILLING CODE 7040-01-P